DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Maternal and Child Health Services Title V Block Grant Program Guidance and Forms for the Title V Application/Annual Report (OMB No. 0915-0172): Revision

The Health Resources and Services Administration (HRSA) proposes to revise the Maternal and Child Health Services Title V Block Grant Program—Guidance and Forms for the Application/Annual Report. The guidance is used annually by the 50 States and 9 jurisdictions to apply for Block Grants under Title V of the Social Security Act, and in preparing the required annual report. The proposed revisions follow and build on extensive consultation received from a workgroup convened to provide suggestions to improve the guidance and forms.

The changes in this edition of the Maternal and Child Health Services Title V Block Grant Program Guidance and Forms for the Title V Application/Annual Report are primarily revisions to Section II—Needs Assessment. The purpose of these revisions is: (1) To provide more complete information on the Background and Conceptual Framework for the Needs Assessment Process (Part A); (2) to clarify what State grantees are to include in the Five Year Needs Assessment Document (Part B); (3) to better explain the information to include in the Annual Needs Assessment Summary/Update, both in the year when the five year Needs Assessment is conducted and in interim years (Part C); and (4) to update Figure 2, the Needs Assessment diagram, to reflect all aspects of the Needs Assessment process. In addition, other minor changes and clarifications are included throughout the document to make the instructions clearer for the respondent. Such changes include the clarification of headings and the types of information that States may want to include in a particular section.

The estimated average annual burden is as follows:

Reporting document | Number of respondents | Responses per respondent | Total responses | Burden per response | Total burden hours | Cost per hour | Total hour cost
Application and Report without Needs Assessment (2009 & 2011) | 59 | 1 | 59 | 270 | 15,930 | $30 | $477,900
Application with Needs Assessment (2010) | 59 | 1 | 59 | 378.5 | 22,332 | 30 | 669,960
Total Average Annual Burden | 59 |  | 59 | 306 | 18,064 | 30 | 541,920
The total estimate of annual burden is the average for the next three year period of Application submissions in which a Needs Assessment will be required once. The Application submissions (with and without the Needs Assessment) are based on the calendar year.

Written comments and recommendations concerning the proposed information collection should be sent within 30 days of this notice to the desk officer for HRSA, either by e-mail to OIRA submission@omb.eop.gov or by fax to 202-395-6974. Please direct all correspondence to the “attention of the desk officer for HRSA.”

Dated: November 24, 2008.
Alexandra Huttinger,
Director, Division of Policy Review and Coordination.

[FR Doc. E8-28541 Filed 12-1-08; 8:45 am]

BILLING CODE 4165-15-P